DEPARTMENT OF THE INTERIOR

Bureau of Land Management

[CA-670-1430-01; AZA 12865/CAAZRI 06106]

Public Land Order No. 7547; Partial Revocation of Secretarial Order Dated October 16, 1931; California

AGENCY: Bureau of Land Management, Interior.

ACTION: Public Land Order.

SUMMARY: This order partially revokes a Secretarial Order dated October 16, 1931, insofar as it affects 31.25 acres of land withdrawn for the Bureau of Reclamation's Colorado River Storage and Survey Projects. This order makes the land available for conveyance under the Recreation and Public Purposes Act.

EFFECTIVE DATE: December 9, 2002.

FOR FURTHER INFORMATION CONTACT: Kathy Gary, BLM California State Office, 2800 Cottage Way, Sacramento, California 95825-1886, 916-978-4677.

SUPPLEMENTARY INFORMATION: The Bureau of Reclamation no longer needs the land and concurs with the partial revocation.

Order

By virtue of the authority vested in the Secretary of the Interior by Section 204 of the Federal Land Policy and Management Act of 1976, 43 U.S.C. 1714 (1994), it is ordered as follows:

1. The Secretarial Order dated October 16, 1931, which withdrew land for the Bureau of Reclamation's Colorado River Storage and Survey Projects, is hereby revoked insofar as it affects the following described land:

San Bernardino Meridian

T. 9 S., R. 21 E.,

sec. 15, S½SW¼SW¼NE¼SW¼, SE¼SE¼SE¼NW¼SW¼, E½E½NE¼SW¼ SW¼, N½SE¼SW¼, NW¼SW¼SE¼SW¼, N½NE¼SW¼SE¼SW¼, SW¼NE¼SW¼SE¼SW¼, and N½N½SE¼SE¼SW¼.

The area described contains 31.25 acres in Imperial County.

2. The land described in Paragraph 1 is hereby made available for conveyance under the Recreation and Public Purposes Act, as amended, 43 U.S.C. 869 (1994).

Dated: November 20, 2002.
Rebecca W. Watson,
Assistant Secretary—Land and Minerals Management.

[FR Doc. 02-30989 Filed 12-6-02; 8:45 am]

BILLING CODE 4310-40-P